DEPARTMENT OF ENERGY

Federal Energy Regulatory Commission

[Project No. 2206]

Notice of Intent To File an Application for a New License

April 29, 2003.

a. Type of Filing: Notice of Intent to File an Application for a New License.

b. Project No.: 2206.

c. Date Filed: April 23, 2003.

d. Submitted By: Carolina Power and Light Company—current licensee.

e. Name of Project: Yadkin-Pee Dee River Hydroelectric Project.

f. Location: On the Yadkin-Pee Dee River in Montgomery, Stanly, Anson, and Richmond Counties, North Carolina. The project does not occupy federal lands.

g. Filed Pursuant to: Section 15 of the Federal Power Act.

h. Licensee Contact: Barry Arney, Progress Energy Carolinas, Inc., Blewett Falls Hydro Plant, SR 1748 Rt. 1 Box 148, Lilesville, NC 28091, (704) 848-4320, ext. 1220.

i. FERC Contact: Ron McKitrick, ronald.mckitrick@ferc.gov, (770) 452-3778.

j. Effective date of current license: May 1, 1958.

k. Expiration date of current license: April 30, 2008.

l. Description of the Project: The project consists of the following two developments:

The Tillery Development consists of the following existing facilities: (1) A 1,200-foot-long earth embankment; (2) a 1,500-foot-long concrete dam with a gated spillway; (3) the 5,260-acre Lake Tillery reservoir with a normal operating level of 278.17 feet msl; (4) a powerhouse integral to the dam containing four generating units with a total installed capacity of 84 MW; and (5) other appurtenances.

The Blewett Development consists of the following existing facilities: (1) One 870-foot-long, and one 850-foot-long earth embankments; (2) a 2,090-foot-long concrete dam with a spillway topped with flashboards; (3) the 2,560-acre Blewett Falls Lake reservoir with a normal operating level of 178.08 feet msl; (4) a powerhouse containing six generating units with a total installed capacity of 24.6 MW; and (5) other appurtenances.

m. Each application for a new license and any competing license applications must be filed with the Commission at least 24 months prior to the expiration of the existing license. All applications for license for this project must be filed by April 30, 2006.

n. A copy of this filing is available for review at the Commission in the Public Reference Room or may be viewed on the Commission's website at http://www.ferc.gov using the “FERRIS” link. Enter the docket number excluding the last three digits in the docket number field to access the document. For assistance, contact FERC Online Support at FERCOnlineSupport@ferc.gov or toll-free at 1-866-208-3676, or TTY (202) 502-8659. A copy is also available for inspection and reproduction at the address in item h above.

Register online at http://www.ferc.gov/esubscribenow.htm to be notified via email of new filings and issuances related to this or other pending projects. For assistance, contact FERC Online Support as shown in the paragraph above.

Magalie R. Salas,
Secretary.

[FR Doc. 03-11118 Filed 5-5-03; 8:45 am]

BILLING CODE 6717-01-P